SMALL BUSINESS ADMINISTRATION

[Disaster Declaration # 11665 and # 11666]

Oklahoma Disaster Number OK-00029

AGENCY: U.S. Small Business Administration.

ACTION: Amendment 1.

SUMMARY: This is an amendment of the Presidential declaration of a major disaster for public assistance only for the state of Oklahoma (FEMA-1823-DR), dated 02/17/2009.

Incident: Severe winter storm.

Incident Period: 01/26/2009 through 01/28/2009.

Effective Date: 03/03/2009.

Physical Loan Application Deadline Date: 04/20/2009.

Economic Injury (EIDL) Loan Application Deadline Date: 11/17/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oklahoma, dated 02/17/2009, is hereby amended to include the following areas as adversely affected by the disaster.

Primary Counties: Comanche, Haskell, McIntosh, Muskogee, Okfuskee, Sequoyah.

All other information in the original declaration remains unchanged.

(Catalog of Federal Domestic Assistance Numbers 59002 and 59008)

Herbert L. Mitchell,
Associate Administrator for Disaster Assistance.

[FR Doc. E9-4871 Filed 3-6-09; 8:45 am]

BILLING CODE 8025-01-P